DEPARTMENT OF DEFENSE

Defense Acquisition Regulations System

48 CFR Parts 207, 216, and 225

Defense Federal Acquisition Regulation Supplement; Technical Amendments

AGENCY: Defense Acquisition Regulations System, Department of Defense (DoD).

ACTION: Final rule.

SUMMARY: DoD is making technical amendments to the Defense Federal Acquisition Regulation Supplement (DFARS) to update reference numbers and correct typographical errors.

DATES: Effective Date: October 4, 2006.

FOR FURTHER INFORMATION CONTACT: Ms. Michele Peterson, Defense Acquisition Regulations System, OUSD(AT&L)DPAP(DARS), IMD 3C132, 3062 Defense Pentagon, Washington, DC 20301-3062. Telephone (703) 602-0311; facsimile (703) 602-0350.

SUPPLEMENTARY INFORMATION: This final rule amends DFARS text as follows:

• Section 207.103. Corrects typographical errors.

• Section 216.603-4. Updates a cross-reference.

• Section 225.7013. Updates a statutory reference.

List of Subjects in 48 CFR Parts 207, 216, and 225

Government procurement.

Michele P. Peterson,
Editor, Defense Acquisition Regulations System.

Therefore, 48 CFR parts 207, 216, and 225 are amended as follows:

1. The authority citation for 48 CFR parts 207, 216, and 225 continues to read as follows:

Authority: 41 U.S.C. 421 and 48 CFR Chapter 1.

PART 207—ACQUISITION PLANNING

207.103 [Amended]

2. Section 207.103 is amended as follows:

a. In paragraph (h) introductory text by removing “SCMA” and adding in its place “SMCA”; and

b. In paragraph (h)(ii), in the second sentence, by removing “SCMA” and adding in its place “SMCA”.

PART 216—TYPES OF CONTRACTS

216.603-4 [Amended]

3. Section 216.603-4 is amended in paragraph (b)(2) by removing “217.7406” and adding in its place “217.7405”.

PART 225—FOREIGN ACQUISITION

4. Section 225.7013 is amended by revising the introductory text to read as follows:

225.7013 Restrictions on construction or repair of vessels in foreign shipyards.

In accordance with 10 U.S.C. 7309 and 7310—

* * * * *

[FR Doc. E6-16400 Filed 10-3-06; 8:45 am]

BILLING CODE 5001-08-P